DEPARTMENT OF STATE

[Public Notice 3740]

U.S. Advisory Commission on Public Diplomacy; Notice of Meeting

The U.S. Advisory Commission on Public Diplomacy will meet on Wednesday, September 19, 2001, in Room 600, 301 4th St., SW., Washington, DC from 3:30 p.m. to 5 p.m.

The Commission will discuss public diplomacy strategies as they relate to the Middle East peace process and U.S. policies toward Iraq.

Members of the general public may attend the meeting, although attendance of public members will be limited to the seating available. Access to the building is controlled, and individual building passes are required for all attendees. Persons who plan to attend should contact Bruce Gregory at (202) 619-4457.

Dated: August 27, 2001.
Bruce Gregory,
U.S. Advisory Commission on Public Diplomacy, U.S. Department of State.

[FR Doc. 01-22121 Filed 8-31-01; 8:45 am]

BILLING CODE 4710-11-P